DEPARTMENT OF ENERGY

Federal Energy Regulatory Commission

Combined Notice of Filings No. 1

November 16, 2009.

Take notice that the Commission has received the following Natural Gas Pipeline Rate and Refund Report filings:

Docket Numbers: RP10-137-000.

Applicants: Eastern Shore Natural Gas Company.

Description: Eastern Shore Natural Gas Company submits Seventieth Revised Sheet No. 7 et al to its FERC Gas tariff, Second Revised Volume No. 1, to be effective 11/1/09.

Filed Date: 11/12/2009.

Accession Number: 20091113-0139.

Comment Date: 5 p.m. Eastern Time on Tuesday, November 24, 2009.

Docket Numbers: RP10-138-000.

Applicants: Texas Gas Transmission, LLC.

Description: Texas Gas Transmission, LLC submits Eleventh Revised Sheet No. 99 to FERC Gas Tariff, Third Revised Volume No. 1, to be effective 11/12/09.

Filed Date: 11/12/2009.

Accession Number: 20091113-0140.

Comment Date: 5 p.m. Eastern Time on Tuesday, November 24, 2009.

Docket Numbers: RP10-139-000.

Applicants: Texas Gas Transmission, LLC.

Description: Texas Gas Transmission, LLC submits Substitute Original Sheet No. 77 to FERC Gas Tariff, Third Revised Volume No. 1.

Filed Date: 11/12/2009.

Accession Number: 20091113-0141.

Comment Date: 5 p.m. Eastern Time on Tuesday, November 24, 2009.

Docket Numbers: RP10-140-000.

Applicants: Freebird Gas Storage, LLC.

Description: Freebird Gas Storage, LLC submits First Revised Sheet 100 et al to FERC Gas Tariff, First Revised Volume 1, to be effective 12/1/09.

Filed Date: 11/12/2009.

Accession Number: 20091113-0102.

Comment Date: 5 p.m. Eastern Time on Tuesday, November 24, 2009.

Docket Numbers: RP10-141-000.

Applicants: T.W. Phillips Pipeline Corporation.

Description: TW Phillips Pipeline Corp submits Original Sheet 1 et al to FERC Gas Tariff, Original Volume 1, to be effective 1/1/10.

Filed Date: 11/12/2009.

Accession Number: 20091113-0101.

Comment Date: 5 p.m. Eastern Time on Tuesday, November 24, 2009.

Docket Numbers: RP10-142-000.

Applicants: Rockies Express Pipeline LLC.

Description: Rockies Express Pipeline LLC submits Tenth Revised Sheet 8A et al to FERC Gas Tariff, Second Revised Volume 1, to be effective 11/12/09.

Filed Date: 11/12/2009.

Accession Number: 20091113-0149.

Comment Date: 5 p.m. Eastern Time on Tuesday, November 24, 2009.

Docket Numbers: RP10-142-001.

Applicants: Rockies Express Pipeline LLC.

Description: Rockies Express Pipeline LLC submits Seventh Revised Sheet 8 et al FERC Gas Tariff, Second Revised Volume 1, to be effective 11/12/09.

Filed Date: 11/13/2009.

Accession Number: 20091113-0158.

Comment Date: 5 p.m. Eastern Time on Tuesday, November 24, 2009.

Docket Numbers: RP10-143-000.

Applicants: Iroquois Gas Transmission System, L.P.

Description: Iroquois Gas Transmission System, LP submits Sixth Revised Sheet 6 of its FERC Gas Tariff, First Revised Volume 1, to be effective 11/15/09.

Filed Date: 11/13/2009.

Accession Number: 20091113-0157.

Comment Date: 5 p.m. Eastern Time on Wednesday, November 25, 2009.

Docket Numbers: RP10-144-000.

Applicants: Discovery Gas Transmission LLC.

Description: Discovery Gas Transmission LLC submits Eighteenth Revised Sheet No 20 to FERC Gas Tariff, Original Volume No 1.

Filed Date: 11/13/2009.

Accession Number: 20091113-0159.

Comment Date: 5 p.m. Eastern Time on Wednesday, November 25, 2009.

Docket Numbers: RP10-145-000.

Applicants: The State of Alaska.

Description: Petition of the State of Alaska for Expedited Grant of Limited Waiver.

Filed Date: 11/12/2009.

Accession Number: 20091112-5243.

Comment Date: 5 p.m. Eastern Time on Tuesday, November 24, 2009.

Docket Numbers: CP10-18-000.

Applicants: Columbia Gulf Transmission Company and Gulf South Pipeline Company, LP.

Description: Abbreviated Joint Application of Columbia Gulf Transmission Company and Gulf South Pipeline Company, LP for permission and approval to abandon Natural Gas Exchange Service.

Filed: 11/10/2009.

Accession Number: 20091110-5118.

Comment Date: 5 p.m. Eastern Time on Friday, November 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-28109 Filed 11-23-09; 8:45 am]

BILLING CODE 6717-01-P